DEPARTMENT OF HEALTH AND HUMAN SERVICES

Centers for Disease Control and Prevention

Injury Research Grant Review Committee: Conference Call Meeting

In accordance with section 10(a)(2) of the Federal Advisory Committee Act (Pub. L. 92-463), the Centers for Disease Control and Prevention (CDC) announces the following conference call committee meeting.

Name: Injury Research Grant Review Committee (IRGRC).

Time and Date: 2:30 p.m.-3 p.m., July 26, 2000.

Place: National Center for Injury Prevention and Control (NCIPC), CDC, Koger Center, Vanderbilt Building, 1st Floor, Conference Room 1004A&B, 2939 Flowers Road, South, Atlanta, Georgia 30341. (Exit Chamblee-Tucker Road off I-85.)

Status: Open: 2:30 p.m.-2:40 p.m., July 26, 2000. Closed: 2:40 p.m.-3:00 p.m., July 26, 2000.

Purpose: This committee is charged with advising the Secretary of Health and Human Services, the Assistant Secretary for Health, and the Director, CDC, regarding the scientific merit and technical feasibility of grant applications received from academic institutions and other public and private profit and nonprofit organizations, including State and local government agencies, to conduct specific injury research that focus on prevention and control and to support injury prevention research centers.

Matters to be Discussed: Agenda items include the purpose of the meeting and discussion and vote on findings and recommendations from a June 26-27, 2000, site visit to assess the National Study of Costs and Outcomes of Trauma at Johns Hopkins University.

Beginning at 2:40 p.m., through 3 p.m., July 26, the Committee will meet to discuss and vote on findings and recommendations from a site visit to assess a national trauma study project. This portion of the meeting will be closed to the public in accordance with provisions set forth in section 552b(c)(4) and (6), title 5 U.S.C., and the Determination of the Associate Director for Management and Operations, CDC, pursuant to Public Law 92-463.

Agenda items are subject to change as priorities dictate.

Contact Person for More Information: J. Howard Hill, Director, Office of Research Grants, serving as the designated Federal official, IRGRC, NCIPC, CDC, 4770 Buford Highway, NE, M/S K58, Atlanta, Georgia 30341-3724, telephone 770/488-4826.

The Director, Management Analysis and Services Office, has been delegated the authority to sign Federal Register Notices pertaining to announcements of meetings and other committee management activities, for both the Centers for Disease Control and Prevention and the Agency for Toxic Substances and Disease Registry.

Dated: July 6, 2000.
Julia Fuller,
Acting Director, Management Analysis and Services Office, Centers for Disease Control and Prevention.

[FR Doc. 00-17573 Filed 7-11-00; 8:45 am]

BILLING CODE 4163-18-P